DEPARTMENT OF COMMERCE

Foreign-Trade Zones Board

[B-37-2013]

Foreign-Trade Zone (FTZ) 26—Atlanta, Georgia; Notification of Proposed Production Activity; PBR, Inc. d/b/a SKAPS Industries (Polypropylene Geotextiles); Athens, Georgia

Georgia Foreign-Trade Zone, Inc., grantee of FTZ 26, submitted a notification of proposed production activity to the FTZ Board on behalf of PBR, Inc. d/b/a SKAPS Industries (SKAPS), located in Athens, Georgia. The notification conforming to the requirements of the regulations of the FTZ Board (15 CFR 400.22) was received on April 8, 2013.

The SKAP facilities are located at 325, 330, and 335 Athena Drive in Athens (Clarke County), Georgia. A separate request for usage-driven status at the SKAP facilities was submitted and will be processed under Section 400.24(c) of the FTZ Board's regulations. The facilities are used for the production of non-woven geotextile fabric using polypropylene fiber. Pursuant to 15 CFR 400.14(b), FTZ activity would be limited to the specific foreign-status materials and components and specific finished products described in the submitted notification (as described below) and subsequently authorized by the FTZ Board.

Production under FTZ procedures could exempt SKAPS from customs duty payments on the foreign status polypropylene fiber used in export production. On its domestic sales, SKAPS would be able to choose the duty rate during customs entry procedures that applies to geotextile fabric (free) for the foreign status polypropylene fiber (4.3%). Customs duties also could possibly be deferred or reduced on foreign status production equipment.

Public comment is invited from interested parties. Submissions shall be addressed to the FTZ Board's Executive Secretary at the address below. The closing period for their receipt is June 10, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: April 23, 2013.
Andrew McGilvray,
Executive Secretary.

[FR Doc. 2013-10140 Filed 4-29-13; 8:45 am]

BILLING CODE 3510-DS-P